DEPARTMENT OF TRANSPORTATION

National Highway Traffic Safety Administration

[Docket No. NHTSA-2015-0052; Notice 2]

Goodyear Tire & Rubber Company, Grant of Petition for Decision of Inconsequential Noncompliance

AGENCY: National Highway Traffic Safety Administration (NHTSA), Department of Transportation (DOT).

ACTION: Grant of petition.

SUMMARY: Goodyear Tire & Rubber Company (Goodyear), has determined that certain Goodyear G316 LHT commercial truck trailer tires do not fully comply with paragraph S6.5(f) of Federal Motor Vehicle Safety Standard (FMVSS) No. 119, New Pneumatic Radial Tires for motor vehicles with a GVWR of more than 4,536 Kilograms (10,000 pounds) and Motorcycles. Goodyear has filed an appropriate report dated April 27, 2015, pursuant to 49 CFR part 573, Defect and Noncompliance Responsibility and Reports.

ADDRESSES: For further information on this decision contact Abraham Diaz, Office of Vehicles Safety Compliance, the National Highway Traffic Safety Administration (NHTSA), telephone (202) 366-5310, facsimile (202) 366-5930.

SUPPLEMENTARY INFORMATION:

I. Overview: Pursuant to 49 U.S.C. 30118(d) and 30120(h) (see implementing rule at 49 CFR part 556), Goodyear submitted a petition for an exemption from the notification and remedy requirements of 49 U.S.C. Chapter 301 on the basis that this noncompliance is inconsequential to motor vehicle safety.

Notice of receipt of the Goodyear's petition was published, with a 30-day public comment period, on June 11, 2015 in the Federal Register (80 FR 33336). No comments were received. To view the petition and all supporting documents log onto the Federal Docket Management System (FDMS) Web site at: http://www.regulations.gov/. Then follow the online search instructions to locate docket number “NHTSA-2015-0052.”

II. Tires Involved: Affected are approximately 79 Goodyear G316 LHT size 295/75R22.5 LRG commercial truck trailer tires manufactured between March 22, 2015 and April 9, 2015.

III. Noncompliance: Goodyear explains that because the sidewall markings on the reference side of the subject tires incorrectly identify the number of plies as “4 Plies Steel Cord” instead of the actual number “5 Plies Steel Cord,” the tires do not meet the requirements of paragraph S6.5(f) of FMVSS No. 119.

IV. Rule Text: Paragraph S6.5 of FMVSS No. 119 requires in pertinent part:

S6.5 Tire markings. Except as specified in this paragraph, each tire shall be marked on each sidewall with the information specified in paragraphs (a) through (j) of this section. . . .

(f) The actual number of plies and the composition of the ply cord material in the sidewall and, if different, in the tread area; . . .

V. Summary of Goodyear's Arguments: Goodyear stated its belief that the subject noncompliance is inconsequential to motor vehicle safety for the following reasons:

(A) Goodyear stated that the subject tires were manufactured as designed and meet or exceed all applicable FMVSS performance standards.

(B) Goodyear also stated that all of the sidewall markings related to tire service (load capacity, corresponding inflation pressure, etc.) are correct.

(C) Goodyear believes that the mislabeling of the subject tires is not a safety concern and also has no impact on the retreading, repairing, and recycling industries.

(D) Goodyear also pointed out that NHTSA has previously granted petitions for non-compliances in sidewall marking that it believes are similar to the subject noncompliance.

Goodyear additionally informed NHTSA that the molds at the manufacturing plant have been corrected so that no additional tires will be manufactured or sold with the noncompliance.

In summation, Goodyear believes that the described noncompliance of the subject tires is inconsequential to motor vehicle safety, and that its petition, to exempt Goodyear from providing recall notification of noncompliance as required by 49 U.S.C. 30118 and remedying the recall noncompliance as required by 49 U.S.C. 30120 should be granted.

NHTSA's Decision

NHTSA's Analysis: Although tire construction affects a tire's strength and durability, neither the agency nor the tire industry provides information relating tire strength and durability to the number of plies and types of ply cord material in the tread and sidewall. Tire dealers and customers must therefore consider the tire construction information along with other information such as load capacity, maximum inflation pressure, and tread wear, temperature, and traction ratings, to assess performance capabilities of various tires.

Therefore, the agency agrees with Goodyear's statement that the incorrect markings in this case do not present a safety concern. There is no effect of the noncompliance on the operational safety of vehicles on which these tires are mounted. In the agency's judgement, the incorrect labeling of the tire construction information in this instance will have an inconsequential effect on motor vehicle safety because most consumers do not base tire purchases or vehicle operation parameters on the number of tire plies. In addition, all of the sidewall markings related to tire service, such as load capacity and corresponding inflation pressure, are correct.

Goodyear has also indicated that it has corrected the stamping problem that caused the noncompliance. NHTSA's Decision: In consideration of the foregoing, NHTSA has decided that Goodyear has met its burden of persuasion that the noncompliance described is inconsequential to motor vehicle safety. Accordingly, Goodyear's petition is hereby granted and Goodyear is exempted from the obligation of providing notification of, and remedy for the subject noncompliance.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, the decision only applies to the subject tires that Goodyear no longer controlled at the time it determined that the noncompliance existed. However, the granting of this petition does not relieve equipment distributors and dealers of the prohibitions on the sale, offer for sale, or introduction or delivery for introduction into interstate commerce of the noncompliant tires under their control after Goodyear notified them that the subject noncompliance existed.

Authority: 49 U.S.C. 30118, 30120: Delegations of authority at 49 CFR 1.95 and 501.8.

Jeffrey M. Giuseppe,
Director, Office of Vehicle Safety Compliance.

[FR Doc. 2015-27611 Filed 10-28-15; 8:45 am]

BILLING CODE 4910-59-P